DEPARTMENT OF COMMERCE

National Oceanic and Atmospheric Administration

50 CFR Part 300

[Docket No. 250630-0116]

RIN 0648-BN18

Fisheries of the Exclusive Economic Zone off Alaska; Pacific Halibut Recreational Quota Entity Program Fee Collection; Correction

AGENCY: National Marine Fisheries Service (NMFS), National Oceanic and Atmospheric Administration (NOAA), Commerce.

ACTION: Final rule; correction.

SUMMARY: NMFS corrects the final rule published on July 7, 2025, to implement the Pacific Halibut Recreational Quota Entity Program Fee Collection. The final rule inadvertently omitted an amendatory instruction to add the definition for “Charter halibut permit holder”. This correction fixes that omission.

DATES: Effective on January 1, 2026.

FOR FURTHER INFORMATION CONTACT: Doug Duncan, 907-586-7228, doug.duncan@noaa.gov.

SUPPLEMENTARY INFORMATION: In the final rule to implement the Pacific Halibut Recreational Quota Entity Program Fee Collection final rule (90 FR 29774, July 7, 2025), NMFS modified the definitions in 50 CFR 300.61 to include a definition for “Charter halibut permit holder.” However, NMFS mistakenly omitted the amendatory instruction to include this definition in the CFR. This action corrects that omission and ensures the regulations are consistent with the description and intent in the Pacific Halibut Recreational Quota Entity Program Fee Collection final rule (90 FR 29774, July 7, 2025).

Correction

In the FR Doc. 2025-12558, published July 7, 2025, at 90 FR 29774, on page 29790, in the first column, the amendatory instruction of 2.b. is corrected to read as follows: “Adding in alphabetical order definitions for “Charter halibut permit holder,” “Charter halibut stamp,” and “Charter halibut stamp validation”; and.”

Dated: November 17, 2025.
Samuel D. Rauch III,
Deputy Assistant Administrator for Regulatory Programs, National Marine Fisheries Service.

[FR Doc. 2025-20326 Filed 11-18-25; 8:45 am]

BILLING CODE 3510-22-P